DEPARTMENT OF AGRICULTURE

U.S. Codex Office

Codex Alimentarius Commission: Meeting of the Codex Committee on Food Labelling

AGENCY: U.S. Codex Office, USDA.

ACTION: Notice of public meeting and request for comments.

SUMMARY: The U.S. Codex Office is sponsoring a public meeting on April 9, 2019. The objective of the public meeting is to provide information and receive public comments on agenda items and draft United States (U.S.) positions to be discussed at the 45th Session of the Codex Committee on Food Labelling (CCFL) of the Codex Alimentarius Commission, in Ottawa, Canada, May 13-17, 2019. The U.S. Manager for Codex Alimentarius and the Under Secretary for Trade and Foreign Agricultural Affairs recognize the importance of providing interested parties the opportunity to obtain background information on the 45th Session of the CCFL and to address items on the agenda.

DATES: The public meeting is scheduled for April 9, 2019, from 1-5 p.m. EST.

ADDRESSES: The public meeting will take place in Meeting Room 107A of the Whitten Building, 1400 Independence Ave. SW, Washington, DC 20250. Documents related to the 45th Session of the CCFL will be accessible via the internet at the following address: http://www.fao.org/fao-who-codexalimentarius/%E2%80%8Bmeetings-reports/%E2%80%8Ben.

Douglas Balentine, U.S. Delegate to the 45th Session of the CCFL, invites U.S. interested parties to submit their comments electronically to the following email address: douglas.balentine@fda.hhs.gov.

Call-In-Number: If you wish to participate in the public meeting for the 45th Session of the CCFL by conference call, please use the call-in-number: 888-844-9904 and participant code 5126092.

Registration: Attendees may register to attend the public meeting by emailing uscodex@osec.usda.gov by April 3, 2019. Early registration is encouraged because it will expedite entry into the building. The meeting will take place in a Federal building. Attendees should bring photo identification and plan for adequate time to pass through the security screening systems. Attendees who are not able to attend the meeting in person, but who wish to participate, may do so by phone, as discussed above.

For Further Information about the 45th Session of the CCFL, contact U.S. Delegate, Douglas Balentine, Director, Office of Nutrition and Food Labelling, Center for Food Safety and Applied Nutrition, U.S. Food and Drug Administration, 5001 Campus Drive (HFS-830), College Park, MD 20740. Telephone: (240) 402-2373, Email: douglas.balentine@fda.hhs.gov.

For Further Information About the Public Meeting Contact: U.S. Codex Office, 1400 Independence Avenue SW, Room 4861, South Agriculture Building, Washington, DC 20250. Phone 202-720-7760, Fax: (202) 720-3157, Email: uscodex@osec.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on Food Labelling (CCFL) are:

(a) To draft provisions on labelling applicable to all foods;

(b) to consider, amend if necessary, and endorse draft specific provisions on labelling prepared by other Codex Committees drafting standards, codes of practice and guidelines;

(c) to study specific labelling problems assigned to it by the Commission; and,

(d) to study problems associated with the advertisement of food with particular reference to claims and misleading descriptions.

The CCFL is hosted by Canada. The United States attends CCFL as a member country of Codex.

Issues To Be Discussed at the Public Meeting

The following items on the Agenda for the 45th Session of the CCFL will be discussed during the public meeting:

• Matters referred to the Committee by the CAC and Codex subsidiary bodies

• Matters of interest from FAO and WHO

• Consideration of labelling provisions in draft Codex standards

• Proposed draft Guidance for the Labelling of Non-Retail Containers

• Proposed draft Guidelines of Front-of-Pack Nutrition Labelling

• internet sales/e-commerce

• Innovation—use of technology in food labelling

• Labelling of alcoholic beverages

• Criteria for the definition of “high in” nutritional descriptors for fats, sugars, and sodium

• Labelling of foods in joint presentation and multipack formats

• Future work and direction of CCFL

• Other Business

Public Meeting

At the April 9, 2019, public meeting, draft U.S. positions on the agenda items will be described and discussed, and attendees will have the opportunity to pose questions and offer comments. Written comments may be offered at the meeting or sent to Douglas Balentine, U.S. Delegate for the 45th Session of the CCFL (see ADDRESSES). Written comments should state that they relate to activities of the 45th Session of the CCFL.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on March 21, 2019.
Mary Lowe,
U.S. Manager for Codex Alimentarius.

[FR Doc. 2019-05768 Filed 3-26-19; 8:45 am]

BILLING CODE P